DEPARTMENT OF ENERGY

Federal Energy Regulatory Commission

[Project No. 13161-000]

Hydrodynamics, Inc.; Notice of Preliminary Permit Application Accepted for Filing and Soliciting Comment, Motions To Intervene, and Competing Applications

July 9, 2008.

On April 1, 2008, Hydrodynamics, Inc. filed an application, pursuant to section 4(f) of the Federal Power Act, proposing to study the feasibility of the Sun River Diversion Dam Project, to be located on an existing dam owned by the U.S. Bureau of Reclamation (USBR), on the Sun River in Teton and Lewis and Clark Counties, Montana, on lands administered by the USBR.

The proposed project would consist of: (1) A proposed 900-foot-long, 10-foot-wide penstock, (2) a proposed powerhouse containing two generating units having a total installed capacity of 12 megawatts, (3) a proposed one-quarter-mile-long, 15-kV transmission line, and (4) appurtenant facilities. The project would have an annual generation of 50 gigawatt-hours that would be sold to a local utility.

Applicant Contact: Mr. Roger Kirk, Hydrodynamics, Inc., P.O. Box 1136, Bozeman, MT 59771; phone: 406-587-5086. FERC Contact: Tom Papsidero, 202-502-6002.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-13146) in the docket number field to access the document. For assistance, call toll-free 1-866-208-3372.

Kimberly D. Bose,
Secretary.

[FR Doc. E8-16205 Filed 7-15-08; 8:45 am]

BILLING CODE 6717-01-P